DEPARTMENT OF TRANSPORTATION

Pipeline and Hazardous Materials Safety Administration

49 CFR Part 173

[Docket No. PHMSA-2013-0206; Notice No. 13-15]

Clarification on Fireworks Policy Regarding Approvals or Certifications for Specialty Fireworks Devices

AGENCY: Pipeline and Hazardous Materials Safety Administration (PHMSA), DOT.

ACTION: Clarification.

SUMMARY: This document clarifies PHMSA's policy regarding applications for specialty fireworks devices. Specialty fireworks devices are fireworks devices in various shapes that produce multiple effects, simultaneously. In this document, we are establishing our policy regarding specialty fireworks devices.

DATES: October 2, 2013.

FOR FURTHER INFORMATION CONTACT: Mr. Ryan Paquet, Director, Approvals and Permits Division, Office of Hazardous Materials Safety, (202) 366-4512, PHMSA, 1200 New Jersey Avenue SE., Washington, DC 20590.

SUPPLEMENTARY INFORMATION:

I. Introduction

In this document, PHMSA's Office of Hazardous Materials Safety (OHMS) is issuing its policy regarding specialty fireworks devices, which sets forth the requirements for approval or certification applications for “Specialty Fireworks Devices” classified as Division 1.4G, consumer fireworks. This notice of our policy clarifies what is considered a “Specialty Fireworks Device” for fireworks manufacturers or their U.S. designated agents to enable them to accurately apply for PHMSA approval or Fireworks Certification Agency (FCA) certification ¹ and minimize the delay in processing applications for these devices.

¹ Manufacturers of Division 1.4G, consumer fireworks have the option of applying to a DOT-approved fireworks certification agency (FCA) instead of applying to PHMSA. The fireworks still must conform to the requirements in the APA Standard 87-1, and pass a thermal stability test. Instead of applying to PHMSA, the manufacturer may apply in writing to an FCA with the information required in the APA Standard 87-1. After reviewing the application, the FCA will notify the manufacturer, in writing, if the fireworks have been classed, certified, and assigned an FC number, or if the application is denied (see 49 CFR 173.65).

II. Background

PHMSA's OHMS, Approvals and Permits Division often receives approval applications for Division 1.4G, consumer fireworks that are in the shape of an animal or a small vehicle that produce multiple effects. In this notice, we are providing guidance for PHMSA-approval or FCA-certification of specialty fireworks devices.

III. General Requirements

Specialty fireworks devices ² may include tanks, small fire trucks, cars, boats, animals, and other similarly shaped devices that produce multiple effects (whistles, lights, sparks, noises, etc.) simultaneously.³ Specialty fireworks devices, which are classified as UN0336, consumer fireworks, of Division 1.4G, must comply with the requirements of 49 CFR 173.56(b), 173.64 or 173.65, the APA Standard 87-1 and the requirements below.

² An example of a specialty fireworks device is a fire truck with 10 tubes, 2 grams per tube, for a total pyrotechnic weight of 20 grams.

³ This policy only applies to UN0336, Fireworks, 1.4G, and does not apply to novelty fireworks devices. Requirements for novelty fireworks devices are found in the APA Standard 87-1, Section 3.2.

Specialty fireworks devices:

1. Must be ground based with or without movement;

2. May contain non-sequential fusing;

3. May not exceed 10 fiberboard or plastic tubes per device;

4. May not contain more than 2 grams of pyrotechnic composition per tube, and not more than 20 grams pyrotechnic composition in the finished device;

5. Have reports that do not contain more than 50 mg of explosive composition per report;

6. Must not contain aerial components and tubes with internal shells, which are prohibited; and

7. Must not be combined with other firework devices.

Issued in Washington, DC, under authority delegated in 49 CFR 1.97.
Magdy El-Sibaie,
Associate Administrator for Hazardous Materials Safety, Pipeline and Hazardous Materials Safety Administration.

[FR Doc. 2013-24092 Filed 10-1-13; 8:45 am]

BILLING CODE 4910-60-P